COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) from the Procurement List that were furnished by nonprofit agencies employing persons who are blind or have other severe disabilities.

DATES: Comments must be received on or before: March 17, 2024.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

4020-01-625-5683—Bungee Rope, Flexible, w/Crimped Loops, 3 feet, Tan

4020-01-625-7190—Bungee Rope, Flexible, w/Crimped Loops, 3 feet, Black

4020-01-625-7196—Bungee Rope, Flexible, w/Crimped Loops, 5 feet, Black

4020-01-625-7203—Bungee Rope, Flexible, w/Crimped Loops, 3 feet, Camouflage

4020-01-625-7215—Bungee Rope, Flexible, w/Crimped Loops, 3 feet, Olive Drab

4020-01-625-8398—Bungee Rope, Flexible, w/Crimped Loops, 3 feet, Orange

4020-01-625-8403—Bungee Rope, Flexible, w/Crimped Loops, 5 feet, Camouflage

4020-01-625-8417—Bungee Rope, Flexible, w/Crimped Loops, 5 feet, Olive Drab

4020-01-625-8430—Bungee Rope, Flexible, w/Crimped Loops, 5 feet, Orange

4020-01-625-8441—Bungee Rope, Flexible, w/Crimped Loops, 5 feet, Tan

Designated Source of Supply: LC Industries, Inc., Durham, NC

Contracting Activity: DLA TROOP SUPPORT, PHILADELPHIA, PA

NSN(s)—Product Name(s):

7530-01-156-9775—Paper, Xerographic, Dual Purpose, 3-Hole Punched, Blue, 8.5″ x 11″

Designated Source of Supply: Louisiana Association for the Blind, Shreveport, LA

Contracting Activity: GSA/FAS ADMIN SVCS ACQUISITION BR(2, NEW YORK, NY

NSN(s)—Product Name(s):

6550-00-NIB-0023—Test Cup, Drug Detection, Round, 2-7/8″ D x 3-1/2″ H, 13-panel dipcard

Designated Source of Supply: Tarrant County Association for the Blind, Fort Worth, TX

Contracting Activity: DLA TROOP SUPPORT, PHILADELPHIA, PA

NSN(s)—Product Name(s):

7510-00-582-4201—Binder, Loose-leaf, Report Cover, Pressboard, 3″ Capacity, Earth Red, 11″ x 8-1/2″

7510-00-281-4309—Binder, Loose-leaf, Report Cover, Pressboard, 3″ Capacity, Earth Red, 8-1/2″ x 11″

7510-00-281-4310—Binder, Loose-leaf, Report Cover, Pressboard, 3″ Capacity, Earth Red, 11″ x 17″

7510-00-281-4313—Binder, Loose-leaf, Report Cover, Pressboard, 6″ Capacity, Earth Red, 11″ x 8-1/2″

7510-00-281-4314—Binder, Loose-leaf, Report Cover, Pressboard, 3″ Capacity, Earth Red, 8-1/2″ x 14″

7510-00-286-7794—Binder, Loose-leaf, Report Cover, Pressboard, No Fastener, 3″ Capacity, Earth Red, 8-1/2″ x 11″

Designated Source of Supply: Georgia Industries for the Blind, Bainbridge, GA

Contracting Activity: GSA/FAS ADMIN SVCS ACQUISITION BR(2, NEW YORK, NY

NSN(s)—Product Name(s):

7510-01-357-6829—Pad, Executive Message Recording, White/Yellow, 2-5/8″ x 6-1/4″, 200 Message Forms

Designated Source of Supply: VisionCorps, Lancaster, PA

Contracting Activity: GSA/FAS ADMIN SVCS ACQUISITION BR(2, NEW YORK, NY

NSN(s)—Product Name(s):

MR 11049—Bag, Tote, Reusable, Collapsible, Summer

MR 11096—Bag, Tote, Reusable, Collapsible, Christmas

MR 11086—Bag, Tote, Reusable, Collapsible, Halloween

MR 11122—Bag, Laminated, Large, Fresh Time

MR 11123—Bag, Laminated, Large, Menu

MR 11124—Bag, Laminated, Large, Baking

MR 11125—Bag, Laminated, Large, Grill Meat

MR 11126—Bag, Tote, Reusable, Collapsible, Everyday

MR 11127—Bag, Laminated, Large, Earth Day

MR 11131—Reusable Shopping Bag, Veterans' Day

MR 11133—Bag, Large, Laminated, U.S.A. Flag and Fireworks

MR 11134—Bag, Large, Laminated, U.S.A. Flag

MR 11135—Bag, Collapsible, Flags with Poles

MR 11137—Bag, Gift, Valentine's Day, Two Hearts With Love

MR 11138—Bag, Gift, Valentine's Day, Cube, Hearts

MR 11139—Bag, Laminated, Large, Hanukkah, Menorah

MR 11140—Bag, Cube, Hanukkah, Menorah

MR 11141—Bag, Gift, Birthday

MR 11142—Bag, Laminated, Large, Birthday Cake

MR 11143—Bag, Collapsible, Birthday Balloons

MR 11091—Bag, Laminated, Large, Easter Design 1

MR 11092—Bag, Laminated, Large, Easter Design 2

MR 11093—Bag, Tote, Reusable, Collapsible, Easter

MR 11094—Bag, Reusable, Laminated Gift Size, Easter Design 1

MR 11095—Bag, Reusable, Laminated Gift Size, Easter Design 2

MR 13067—Container, Clip Top, Ice Pack, Assorted Colors

MR 13068—Container, Multi-Pack, Assorted Colors

MR 13069—Container, Noodles, Assorted Colors

MR 13070—Mug, Soup, 24 oz, Assorted Colors

MR 13071—Mug, Thermal, Assorted Colors

MR 13072—Container, Snap Top, Assorted Colors

Designated Source of Supply: West Texas Lighthouse for the Blind, San Angelo, TX

Contracting Activity: MILITARY RESALE-DEFENSE COMMISSARY AGENCY

NSN(s)—Product Name(s):

MR 11133—Bag, Large, Laminated, U.S.A. Flag and Fireworks

Designated Source of Supply: Winston-Salem Industries for the Blind, Inc, Winston-Salem, NC

Contracting Activity: MILITARY RESALE-DEFENSE COMMISSARY AGENCY

NSN(s)—Product Name(s):

MR 1177—Refill, Mop, Sticky

MR 587—Dual Action Dish Wand Refill

MR 924—Mop, Block Sponge w/Scrubber Strip

MR 934—Refill, MR 924 Block w/Scrubber

MR 1057—Butterfly Mop, Hybrid Sponge

MR 1058—Refill, Hybrid Sponge Head, Blue

Designated Source of Supply: LC Industries, Inc., Durham, NC

Contracting Activity: MILITARY RESALE-DEFENSE COMMISSARY AGENCY

NSN(s)—Product Name(s):

MR 533—SKILCRAFT Bio Serve Flatware

Designated Source of Supply: LC Industries, Inc., Durham, NC

Contracting Activity: DEFENSE COMMISSARY AGENCY, FORT GREGG-ADAMS, VA

Michael R. Jurkowski,
Acting Director, Business Operations.

[FR Doc. 2024-03275 Filed 2-15-24; 8:45 am]

BILLING CODE 6353-01-P